ENVIRONMENTAL PROTECTION AGENCY

[CERCLA-04-2020-2502; FRL-10007-77-Region 4]

Welch Group Environmental Palmetto Site; Notice of Settlement

AGENCY: Environmental Protection Agency (EPA).

ACTION: Notice of proposed settlement.

SUMMARY: Under 122(h) of the Comprehensive Environmental Response, Compensation and Liability Act (CERCLA), the United States Environmental Protection Agency (EPA) proposes to enter into a Settlement Agreement for Recovery of Past Response Costs with Gary Warehouse Services, LLC, concerning the Welch Group Environmental Palmetto Site located in Belton, South Carolina. The settlement addresses recovery of CERCLA costs for a cleanup action performed by the EPA at the Site.

DATES: The Agency will consider public comments on the settlement until May 26, 2020. The Agency will consider all comments received and may modify or withdraw its consent to the proposed settlement if comments received disclose facts or considerations which indicate that the proposed settlement is inappropriate, improper, or inadequate.

ADDRESSES: Copies of the settlement are available from the Agency by contacting Ms. Paula V. Painter, Program Analyst, using the contact information provided in this notice or through the Agency's web page https://www.epa.gov/aboutepa/about-epa-region-4-southeast#r4-public-notices. Comments may be submitted by referencing the Site's name or Docket # CERCLA-04-2020-2502 through email to Painter.Paula@epa.gov.

FOR FURTHER INFORMATION CONTACT: Paula V. Painter at 404/562-8887.

Dated: April 14, 2020.
Maurice Horsey,
Chief, Enforcement Branch, Superfund & Emergency Management Division.

[FR Doc. 2020-08668 Filed 4-23-20; 8:45 am]

BILLING CODE 6560-50-P